DEPARTMENT OF TRANSPORTATION

Pipeline and Hazardous Materials Safety Administration

[Docket No: PHMSA-2022-0085]

Pipeline Safety: Information Collection Activities: Mitigation of Ruptures on Onshore Gas Transmission and Gathering, Hazardous Liquid, and Carbon Dioxide Pipeline Segments Using Rupture-Mitigation Valves or Alternative Equivalent Technologies and Blending of Hydrogen Gas and Natural Gas within Gas Pipelines

AGENCY: Pipeline and Hazardous Materials Safety Administration (PHMSA), Department of Transportation (DOT).

ACTION: Notice and extension of comment period.

SUMMARY: On March 25, 2024, PHMSA published a notice in the Federal Register inviting public comments on its intent to request the Office of Management and Budget's (OMB) approval of changes to PHMSA forms to collect data on the use of rupture mitigation valves, or alternative equivalent technologies, and the blending of hydrogen gas with other natural gases within gas pipelines. In response to a petition, PHMSA is extending the deadline to submit comments.

DATES: The comment submission deadline for the notice published March 25, 2024 at 89 FR 20751 is extended from May 24, 2024, to June 24, 2024.

FOR FURTHER INFORMATION CONTACT: Angela Hill by phone at 202-366-1246 or by email at Angela.Hill@dot.gov.

SUPPLEMENTARY INFORMATION: On March 25, 2024, PHMSA published a notice in the Federal Register (89 FR 20751) inviting public comments on its intent to request the Office of Management and Budget's (OMB) approval of changes to existing information collections under OMB control numbers 2137-0627 (National Registry of Pipeline and LNG Operators), 2137-0635 (Pipeline Operators), 2137-0635 (Incident Reports for Natural Gas Pipeline Operators), 2137-0629 (Annual Report for Gas Distribution Operators), 2137-0522 (Annual Reports for Gas Pipeline Operators), 2137-0614 (Hazardous Liquid Pipeline Operator Annual Reports), and 2137-0596 (National Pipeline Mapping Program). The proposed information collection changes would provide data necessary to demonstrate an alternative approach to the implementation of Recommendation P-11-11 made by the National Transportation Safety Board and allow PHMSA to identify trends related to the blending of hydrogen gas and natural gas within gas pipelines from operator-submitted data. Comments on the proposed data collection are due on May 24, 2024.

On April 1, 2024, the Interstate Natural Gas Association of America, the American Fuel and Petrochemical Manufacturers, the American Gas Association, the American Petroleum Institute, the American Public Gas Association, and the GPA Midstream Association (the Associations) requested PHMSA extend the May 24, 2024, deadline to submit comments. Specifically, the Associations requested an additional 119 days to provide comments on the information collection proposal.

PHMSA believes the allotted time is sufficient to provide comments on the proposed changes, however, PHMSA acknowledges the Associations request for additional time due to them also providing comments on pending rulemaking actions. PHMSA will extend the comment submission deadline from May 24, 2024, to June 24, 2024. Consistent with 49 CFR 190.323, PHMSA will consider late-filed comments to the extent practicable.

Issued in Washington, DC, on April 30, 2024, under authority delegated in 49 CFR 1.97.
Alan K. Mayberry,
Associate Administrator for Pipeline Safety.

[FR Doc. 2024-09742 Filed 5-3-24; 8:45 am]

BILLING CODE 4910-60-P